DEPARTMENT OF HEALTH AND HUMAN SERVICES

Centers for Disease Control and Prevention

[Docket Number CDC-2017-0014, NIOSH-292]

Draft Chapter: Analysis of Carbon Nanotubes and Nanofibers on Filters by Transmission Electron Microscopy; Request for Comments

AGENCY: National Institute for Occupational Safety and Health (NIOSH) of the Centers for Disease Control and Prevention (CDC), Department of Health and Human Services (HHS).

ACTION: Request for comments.

SUMMARY: The National Institute for Occupational Safety and Health of the Centers for Disease Control and Prevention announces the availability of a draft chapter to be published in the NIOSH Manual of Analytical Methods entitled, “Analysis of Carbon Nanotubes and Nanofibers on Filters by Transmission Electron Microscopy,” for public comment. The document and instructions for submitting comments can be found at www.regulations.gov.

DATES: Electronic or written comments must be received by April 28, 2017.

ADDRESSES: You may submit comments, identified by CDC-2017-0014 and docket number NIOSH-292, by any of the following methods:

• Federal eRulemaking Portal: http://www.regulations.gov. Follow the instructions for submitting comments.

• Mail: National Institute for Occupational Safety and Health, NIOSH Docket Office, 1090 Tusculum Avenue, MS C-34, Cincinnati, Ohio 45226-1998.

Instructions: All information received in response to this notice must include the agency name and docket number [CDC-2017-0014; NIOSH-292]. All relevant comments received will be posted without change to www.regulations.gov, including any personal information provided. For access to the docket to read background documents or comments received, go to www.regulations.gov. All information received in response to this notice will also be available for public examination and copying at the NIOSH Docket Office, 1150 Tusculum Avenue, Room 155, Cincinnati, OH 45226-1998.

FOR FURTHER INFORMATION CONTACT: M. Eileen Birch, Ph.D., CDC/NIOSH, 1090 Tusculum Avenue, MS R-7, Cincinnati, Ohio 45226; (513) 841-4298 (this is not a toll free number).

SUPPLEMENTARY INFORMATION: Background: The NIOSH Manual of Analytical Methods (NMAM) was first published in 1974 and currently contains over 300 methods that can be used by occupational safety and health professionals to measure worker exposures to chemical and biological agents. In addition to the methods, the NMAM contains chapters that offer guidance on workplace air sampling, instrumentation, analytical protocols, and quality assurance. The draft chapter entitled, “Analysis of Carbon Nanotubes and Nanofibers on Mixed Cellulose Ester Filters by Transmission Electron Microscopy,” is proposed for addition to NMAM and provides standardized approaches for the analysis of carbon nanoparticles. These standardized approaches are meant to harmonize analytical techniques, enabling comparison of results between studies and fostering optimal data quality. NIOSH scientists published studies on the microanalysis of airborne carbonaceous nanomaterials, and this research has led to the procedures described in this chapter. The chapter provides detailed guidance on effective means to perform transmission electron microscopic analysis on carbon nanotubes and nanofibers that are sampled from occupational atmospheres. This draft chapter has previously undergone scientific peer review and is proposed for inclusion in the 5th edition of NMAM (www.cdc.gov/niosh/nmam).

Information Needs: NIOSH is seeking public review and comment on this document from anyone with an interest in analysis of carbon nanoparticles.

John Howard,
Director, National Institute for Occupational Safety and Health, Centers for Disease Control and Prevention.

[FR Doc. 2017-03738 Filed 2-24-17; 8:45 am]

BILLING CODE 4163-19-P